DEPARTMENT OF ENERGY

Federal Energy Regulatory Commission

[Docket No. EG01-183-000, et al.]

Altofer, Inc., et al. Electric Rate and Corporate Regulation Filings

April 11, 2001.

Take notice that the following filings have been made with the Commission:

1. Altorfer, Inc.

[Docket No. EG01-183-000]

Take notice that on April 9, 2001, Altorfer, Inc., with its principal office located in Cedar Rapids, Iowa, filed with the Federal Energy Regulatory Commission an Application for Determination of Exempt Wholesale Generator Status pursuant to Part 365 of the Commission's regulations.

Pursuant to an Agreement entered into by Altorfer and Central Illinois Light Company (CILCO), Altorfer will build and own an approximately 25 MW (net) diesel-fueled generation facility in Tazewell County, Illinois (Facility).

Comment date: May 2, 2001, in accordance with Standard Paragraph E at the end of this notice. The Commission will limit its consideration of comments to those that concern the adequacy or accuracy of the application.

2. AES Ironwood, L.L.C.

[Docket No. ER01-1315-001]

Take notice that on April 6, 2001, AES Ironwood, L.L.C. tendered for filing amended and supplemented its Petition for Order Accepting Market-Based Rate Tariff and Waiver and Blanket Approvals, Docket No. ER01-1315-000.

Copies of this filing are on file with the Commission and are available for public inspection.

Comment date: April 27, 2001, in accordance with Standard Paragraph E at the end of this notice.

3. Central Maine Power Company

[Docket No. ER01-1742-000]

Please take notice that on April 6, 2001, Central Maine Power Company (CMP) tendered for filing a Local Network Operating Agreement (LNOA) and a service agreement for Local Network Transmission Service (LNTS) entered into with Midwest Price Company, LLC.

Service will be provided pursuant to CMP's Open Access Transmission Tariff, designated rate schedule CMP-FERC Electric Tariff, Fifth Revised Volume No. 3, Service Agreement Numbers 121 (LNOA) and 122 (LNTS).

Comment date: April 27, 2001, in accordance with Standard Paragraph E at the end of this notice.

4. Xcel Energy Services Inc.

[Docket No. ER01-1743-000]

Take notice that on April 6, 2001, Xcel Energy Services Inc. (XES), on behalf of Northern States Power Companies (NSP) tendered for filing a Short-Term Market-Based Electric Service Agreement between NSP and Navitas Energy.

XES requests that this Short-Term Market-Based Electric Service Agreement be made effective on March 30, 2001.

Comment date: April 27, 2001, in accordance with Standard Paragraph E at the end of this notice.

5. Pacific Gas and Electric Company

[Docket No. ER01-1744-000]

Take notice that on April 6, 2001, Pacific Gas and Electric Company (PG&E) tendered for filing a change in rate under its Reliability Must-Run Service Agreement (RMR Agreement) with the California Independent System Operator Corporation (ISO) for Hunters Point Power Plant (Hunters Point), PG&E Rate Schedule FERC No. 209. The rate change is a one-time charge to recover part of the costs PG&E incurred to repair Unit 4 at Hunters Point and restore it to regular operation after a forced outage in 1999. This charge is authorized under the RMR Agreement and was approved in advance by the ISO.

Comment date: April 27, 2001, in accordance with Standard Paragraph E at the end of this notice.

6. Entergy Services, Inc.

[Docket No. ER01-1746-000]

Take notice that on April 6, 2001, Entergy Services, Inc., on behalf of Entergy Arkansas, Inc., Entergy Gulf States, Inc., Entergy Louisiana, Inc., Entergy Mississippi, Inc., and Entergy New Orleans, Inc., (collectively, the Entergy Operating Companies) tendered for filing a Non-Firm Point-To-Point Transmission Service Agreement and a

Short-Term Firm Point-To-Point Transmission Service Agreement both between Entergy Services, Inc., as agent for the Entergy Operating Companies, and Mississippi Delta Energy Agency.

Comment date: April 27, 2001, in accordance with Standard Paragraph E at the end of this notice.

7. Allegheny Energy Service Corporation, on Behalf of Monongahela Power Company, The Potomac Edison Company, and West Penn Power Company (Allegheny Power)

[Docket No. ER01-1747-000]

Take notice that on April 6, 2001, Allegheny Energy Service Corporation on behalf of Monongahela Power Company, The Potomac Edison Company and West Penn Power Company (Allegheny Power), tendered for filing Service Agreement Nos. 349 and 350 to add Energy USA-TPC Corp. to Allegheny Power's Open Access Transmission Service Tariff which has been accepted for filing by the Federal Energy Regulatory Commission in Docket No. ER96-58-000. The proposed effective date under the Service Agreements is April 5, 2001 or a date ordered by the Commission.

Copies of the filing have been provided to the Public Utilities Commission of Ohio, the Pennsylvania Public Utility Commission, the Maryland Public Service Commission, the Virginia State Corporation Commission, and the West Virginia Public Service Commission.

Comment date: April 27, 2001, in accordance with Standard Paragraph E at the end of this notice.

8. Commonwealth Edison Company

[Docket No. ER01-1749-000]

Take notice that on April 6, 2001, Commonwealth Edison Company (ComEd) tendered for filing an Interconnection Agreement with Chicago Heights Energy Partners LLC (CHEP). ComEd requests an effective date of April 7, 2001 and accordingly seeks waiver of the Commission's notice requirements.

Copies of the filing were served on CHEP and the Illinois Commerce Commission.

Comment date: April 27, 2001, in accordance with Standard Paragraph E at the end of this notice.

9. Commonwealth Edison Company

[Docket No. ER01-1750-000]

Take notice that on April 6, 2001, Commonwealth Edison Company (ComEd) tendered for filing an Interconnection Agreement with Duke Energy Kankakee LLC (DEK). ComEd requests an effective date of April 7, 2001 and accordingly seeks waiver of the Commission's notice requirements. Copies of the filing were served on DEK and the Illinois Commerce Commission.

Comment date: April 27, 2001, in accordance with Standard Paragraph E at the end of this notice.

10. Delmarva Power & Light Company

[Docket No. ER01-1751-000]

Take notice that on April 6, 2001, Delmarva Power & Light Company (Delmarva) tendered for filing an Interconnection Agreement between Delmarva and Conectiv Delmarva Generation, Inc. (CDG). The Interconnection Agreement provides for the interconnection of facilities at the Hay Road generating station, which will be operated by CDG, with Delmarva facilities. Delmarva requests that the Interconnection Agreement become effective on April 9, 2001.

Copies of the filing were served upon the Delaware Public Service Commission, the Maryland Public Service Commission and the Virginia State Corporation Commission.

Comment date: April 27, 2001, in accordance with Standard Paragraph E at the end of this notice.

11. Commonwealth Edison Company

[Docket No. ER01-1752-000]

Take notice that on April 6, 2001, Commonwealth Edison Company (ComEd) tendered for filing an Interconnection Agreement with Calumet Power LLC (Calumet). ComEd requests an effective date of April 7, 2001 and accordingly seeks waiver of the Commission's notice requirements.

Copies of the filing were served on Calumet and the Illinois Commerce Commission.

Comment date: April 27, 2001, in accordance with Standard Paragraph E at the end of this notice.

12. PJM Interconnection, L.L.C.

[Docket No. ER01-1754-000]

Take notice that on April 6, 2001, PJM Interconnection, L.L.C. (PJM), tendered for filing two executed umbrella service agreements between PJM and Orion Power Midwest for Firm and Non-Firm Point-to-Point Transmission Service.

PJM requests a waiver of the Commission's 60-day notice requirement to permit an effective date of March 7, 2001.

Copies of this filing were served upon Orion Power Midwest, and the state electric utility commissions within the PJM control area.

Comment date: April 27, 2001, in accordance with Standard Paragraph E at the end of this notice.

13. Constellation Power Source, Inc.

[Docket No. ER01-1755-000]

Take notice that on April 6, 2001, Constellation Power Source, Inc. (CPS) tendered for filing an Application For Acceptance of Market-Based Rate Schedule For Sales of Electricity and Capacity from Independent Power Producers to CPS, Waivers and Blanket Authority; and Notice of Succession.

Specifically, CPS seeks authority, on behalf of small independent power producers meeting certain specified criteria (IPPs), to permit IPPs to sell capacity and/or energy to CPS at market-based rates. In addition, pursuant to Section 205 of the FPA and 18 CFR 35.16, Constellation Power Source, LLC has filed a notice of succession with the Commission.

Comment date: April 27, 2001, in accordance with Standard Paragraph E at the end of this notice.

14. WEC Operating Companies

[Docket No. ER01-1756-000]

Take notice that on April 6, 2001, Wisconsin Energy Corporation Operating Companies (WEC Operating Companies) tendered for filing a revision to its Joint Ancillary Services Tariff (JAST). The revisions would allow eligible customers to purchase Schedule A Ancillary Services (Reactive Supply and Voltage Control from Generation Sources) directly from the WEC Operating Companies.

WEC Operating Companies requests an effective date of April 1, 2001. Copies of the filing have been served on all eligible customers under the JAST, the Public Service Commission of Wisconsin and the Michigan Public Service Commission.

Comment date: April 27, 2001, in accordance with Standard Paragraph E at the end of this notice.

15. North Atlantic Energy Corporation

[Docket No. ER01-1757-000]

Take notice that on March 29, 2001, North Atlantic Energy Corporation (North Atlantic) tendered for filing First Revised Rate Schedules FERC Nos. 1 and 3 explaining that the State of New Hampshire, represented by the Office of Attorney General, needed to be consulted regarding the changes to the Revised Rate Schedules.

Comment date: April 19, 2001, in accordance with Standard Paragraph E at the end of this notice.

16. Sierra Southwest Electric Power Cooperative Services, Inc.

[Docket No. EL01-62-000]

Take notice that on April 11, 2001, Sierra Southwest Cooperative Services, Inc., tendered for filing a request for determination as to the non-jurisdictional status of certain of its activities.

Comment date: May 2, 2001, in accordance with Standard Paragraph E at the end of this notice.

17. Southwest Transmission Electric Power Cooperative, Inc.

[Docket No. NJ01-3-000]

Take notice that on April 11, 2001, Southwest Transmission Electric Power Cooperative, Inc., tendered for filing its open access transmission tariff and standards of conduct and/or request for waivers under Orders Nos. 888 and/or 889.

Comment date: May 2, 2001, in accordance with Standard Paragraph E at the end of this notice.

18. Sierra Southwest Cooperative Services, Inc.

[Docket No. ER01-1663-000]

Take notice that on April 11, 2001, Sierra Southwest Cooperative Services, Inc., tendered for filing a rate schedule for the wholesale sale of electric energy and capacity at market-based rates and a Resource Integration Agreement.

Comment date: May 2, 2001, in accordance with Standard Paragraph E at the end of this notice.

Standard Paragraph

E. Any person desiring to be heard or to protest such filing should file a motion to intervene or protest with the Federal Energy Regulatory Commission, 888 First Street, NE., Washington, DC 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of these filings are on file with the Commission and are available for public inspection. This filing may also be viewed on the Internet at http://www.ferc.fed.us/online/rims.htm (call 202-208-2222 for assistance). Comments, protests, and interventions may be filed electronically via the internet in lieu of paper. See, 18 CFR 385.2001(a)(1)(iii) and the instructions on the Commission's web site at http://www.ferc.fed.us/efi/doorbell.htm.

David P. Boergers,
Secretary.

[FR Doc. 01-9551 Filed 4-17-01; 8:45 am]

BILLING CODE 6717-01-P